DEPARTMENT OF COMMERCE

National Oceanic and Atmospheric Administration

RIN: 0648-XI73

Pacific Fishery Management Council; Public Meeting

AGENCY: National Marine Fisheries Service (NMFS), National Oceanic and Atmospheric Administration (NOAA), Commerce.

ACTION: Notice of a public meeting.

SUMMARY: The Pacific Fishery Management Council's (Council) Highly Migratory Species Management Team (HMSMT) will hold a work session, which is open to the public.

DATES: The Pacific Fishery Management Council's (Council) Highly Migratory Species Management Team (HMSMT) will a hold work session, which is open to the public. The work session will be from 8:30 a.m. to 5 p.m. on Thursday, July 31 and from 8:30 a.m. until the business of the meeting is finished on Friday, August 1, 2008.

ADDRESSES: The work sessions will be held at the National Marine Fisheries Service, Southwest Fisheries Science Center, Large Conference Room, 8604 La Jolla Shores Drive, La Jolla, CA 92037, telephone: (858) 546-7000.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: The HMSMT will discuss the following topics: (1) the environmental analysis for a range of alternatives for a limited entry program to allow a shallow-set longline fishery, which targets swordfish, to be prosecuted from the west coast, including qualifying criteria for limited entry; (2) a range of options for the management of the recreational fishery for thresher sharks in California; (3) preparation of the 2008 HMS Stock Assessment and Fishery Evaluation (SAFE) report; (4) a NMFS proposal to develop management concepts for the west coast albacore troll fishery; and (5) application of the results of a recent workshop on interactions between west coast swordfish fisheries and leatherback sea turtles to future research, monitoring, and management.

Although non-emergency issues not contained in the meeting agenda may be discussed, those issues may not be the subject of formal action during these meetings. Action will be restricted to those issues specifically listed in this document and any issues arising after publication of this document that require emergency action under Section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Authority: : 16 U.S.C. 1801 et seq.

Dated: June 25, 2008.
Tracey L. Thompson,
Acting Director, Office of Sustainable Fisheries, National Marine Fisheries Service.

[FR Doc. E8-14809 Filed 6-27-08; 8:45 am]

BILLING CODE 3510-22-S